ENVIRONMENTAL PROTECTION AGENCY

40 CFR Part 300

[EPA-HQ-SFUND-1986-0005; FRL-10004-87-Region 8]

National Oil and Hazardous Substances Pollution Contingency Plan; National Priorities List: Partial Deletion of the Idaho Pole Co. Superfund Site

AGENCY: Environmental Protection Agency (EPA).

ACTION: Final rule.

SUMMARY: The Environmental Protection Agency (EPA) Region 8 announces the deletion of the surface and unsaturated subsurface soils outside of the 4.5 acre Treated Soils Area of the Idaho Pole Co. Superfund Site (Site) located in Bozeman, Montana from the National Priorities List (NPL). The NPL, promulgated pursuant to section 105 of the Comprehensive Environmental Response, Compensation, and Liability Act (CERCLA) of 1980, as amended, is an appendix of the National Oil and Hazardous Substances Pollution Contingency Plan (NCP). This partial deletion pertains to the surface and unsaturated subsurface soils remedy component outside of the 4.5 acre Treated Soils Area of the Idaho Pole Company Superfund Site. The groundwater, sediments and saturated subsurface soils are being addressed as part of the groundwater remedy component and are not being considered for deletion as part of this action. The EPA and the State of Montana, through the Department of Environmental Quality (DEQ), have determined that all appropriate response actions under CERCLA, other than operation and maintenance, monitoring-and five-year reviews, have been completed. However, the deletion of the surface and unsaturated surface soils outside of the 4.5 acre Treated Soils Area does not preclude future actions under Superfund.

DATES: This action is effective January 31, 2020.

ADDRESSES: EPA has established a docket for this action under Docket Identification No. EPA-HQ-SFUND-1986-0005. All documents in the docket are listed on the http://www.regulations.gov website. Although listed in the index, some information is not publicly available, i.e., Confidential Business Information or other information whose disclosure is restricted by statute. Certain other material, such as copyrighted material, is not placed on the internet and will be publicly available only in hard copy form. Publicly available docket materials are available electronically in http://www.regulations.gov; by calling EPA Region 8 at (406) 457-5046 and leaving a message; and at the U.S EPA Montana Office, Federal Building, Suite 3200, 10 West 15th Street, Helena, MT 59626, Hours: Monday to Friday from 8:00 a.m.-5:00 p.m.; and the Bozeman Public Library, 626 East Main Street, Bozeman, MT 59715; (406) 582-2400, Hours: (Library hours vary).

FOR FURTHER INFORMATION CONTACT: Roger Hoogerheide, Remedial Project Manager, U.S. EPA Montana Office, Federal Building, Suite 3200, 10 West 15th Street Helena, MT 59626: (406) 457-5031 or (866) 457-2690 extension 1, email hoogerheide.roger@epa.gov.

SUPPLEMENTARY INFORMATION: The portion of the site to be deleted from the NPL is: Surface and unsaturated subsurface soils outside of the Treated Soils Area of the Idaho Pole Co. Superfund Site in Bozeman, Montana. A Notice of Intent for Partial Deletion for this Site was published in the Federal Register (84 FR 34839) on July 19, 2019.

The closing date for comments on the Notice of Intent for Partial Deletion was August 19, 2019 and extended to September 6, 2019. Two written and three oral public comments were received and expressed concerns about future redevelopment of the Site, the extent of the Superfund investigation and remedy, as well as the source and fate of the contaminants. The properties that were remediated under the Superfund process have land and groundwater use restrictions placed on them to ensure future redevelopment of the property will remain protective of human health and the environment. A Notice of Institutional Control was filed with the Gallatin County Clerk and Recorder in 2010 on this 4.5 acres that applies restrictions on new construction and excavation. EPA investigations identified all possible sources of surface and unsaturated soils that needed cleanup. Contaminated soils were excavated, treated and placed on-site. The 4.5 acre Treated Soils Area is the location where all treated soils were placed after on-site treatment. Treated soils are located on the 4.5 acres that remain on the NPL. Additional data needs to be collected before the Site's sediments can be deleted.

EPA believes the partial deletion action is appropriate. A responsiveness summary to public comments with supporting materials was prepared and placed in both the docket, EPA-HQ-SFUND-1986-0005, on www.regulations.gov, and in the local repositories listed above.

EPA maintains the NPL as the list of sites that appear to present a significant risk to public health, welfare, or the environment. Deletion of a site from the NPL does not preclude further remedial action. Whenever there is a significant release from a site deleted from the NPL, the deleted site may be restored to the NPL without application of the hazard ranking system. Deletion of portions of a site from the NPL does not affect responsible party liability, in the unlikely event that future conditions warrant further actions.

List of Subjects in 40 CFR Part 300

Environmental protection, Air pollution control, Chemicals, Hazardous substances, Hazardous waste, Intergovernmental relations, Penalties, Reporting and recordkeeping requirements, Superfund, Water pollution control, Water supply.

Dated: January 22, 2020.
Gregory E. Sopkin,
Regional Administrator, Region 8.

For reasons set out in the preamble, 40 CFR part 300 is amended as follows:

PART 300—NATIONAL OIL AND HAZARDOUS SUBSTANCES POLLUTION CONTINGENCY PLAN

1. The authority citation for part 300 continues to read as follows:

Authority: 33 U.S.C. 1321(c)(2); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

Appendix B to Part 300—[Amended]

2. Table 1 of appendix B to part 300 is amended by revising the listing under Montana for “Idaho Pole Co” to read as follows:

Appendix B to Part 300—National Priorities List

Table 1—General Superfund Section
State | Site name | City/county | Notes (a)
* * * * * * *
MT | Idaho Pole Co | Bozeman | P
* * * * * * *
(a) = Based on issuance of health advisory by Agency for Toxic Substances and Disease Registry (if scored, HRS score need not be greater than or equal to 28.50).
* * * * * * *
P = Sites with partial deletion(s).
* * * * * * *

[FR Doc. 2020-01748 Filed 1-30-20; 8:45 am]

BILLING CODE 6560-50-P